COMMITTEE FOR THE IMPLEMENTATION OF TEXTILE AGREEMENTS

Announcement of a Grace Period on Export Visa and Quota Requirements for Certain Textile Costumes Produced or Manufactured in Various Countries, Exported Before April 1, 2002, and Entered for Consumption or Withdrawn from Warehouse for Consumption Before June 1, 2002

February 28, 2002.

AGENCY: Committee for the Implementation of Textile Agreements (CITA).

ACTION: Issuing a directive to the Commissioner of Customs to allow a grace period on export visa and quota requirements for certain textile costumes.

SUMMARY: On March 1, 2002, the U.S. Customs Service published a notice in the Federal Register informing the public that certain imported textile costumes, entered for consumption or withdrawn from warehouse for consumption after March 1, 2002, are to be classified as wearing apparel in accordance with the Court of International Trade decision in Rubie’s Costume Company v. United States. This announcement applied to imported textile costumes of the character covered by the Customs decision published in the Federal Register on December 4, 1998 (see 63 FR 67170). The Committee for the Implementation of Textile Agreements has decided to allow a grace period before imposing quota and visa requirements. Accordingly, in the letter published below, the Chairman of CITA directs the Commissioner of Customs to exempt from export visa and quota requirements goods described above that are exported before April 1, 2002, and entered for consumption or withdrawn from warehouse for consumption before June 1, 2002.

EFFECTIVE DATE: March 1, 2002.

FOR FURTHER INFORMATION CONTACT: Martin Walsh, International Trade Specialist, Office of Textiles and Apparel, U.S. Department of Commerce, (202) 482-3400.

SUPPLEMENTARY INFORMATION:

Authority Section 204 of the Agricultural Act of 1956, as amended (7 U.S.C. 1854); Executive Order 11651 of March 3, 1972, as amended.

D. Michael Hutchinson,
Acting Chairman, Committee for the Implementation of Textile Agreements.

Committee for the Implementation of Textile Agreements

February 28, 2002.

Commissioner of Customs,

Department of the Treasury, Washington, DC 20229.

The Committee for the Implementation of Textile Agreements has decided to allow a grace period on the export visa and quota requirements for the textile costumes of the character covered by the Customs decision published in the Federal Register on December 4, 1998 (see 63 FR 67170).

Effective on March 1, 2002, you are directed to exempt from export visa and quota requirements goods as described above that are exported prior to April 1, 2002, and entered for consumption or withdrawn from warehouse for consumption prior to June 1, 2002.

Sincerely,

D. Michael Hutchinson,

Acting Chairman, Committee for the Implementation of Textile Agreements.

[FR Doc.02-5194 Filed 2-28-02; 1:47 pm]

BILLING CODE 3510-DR-S